DEPARTMENT OF TRANSPORTATION

Federal Aviation Administration

14 CFR Part 39

[Docket No. FAA-2006-25084; Project Identifier 2005-SW-38-AD; Amendment 39-21541; AD 2021-10-08]

RIN 2120-AA64

Airworthiness Directives; Bell Textron Canada Limited (Type Certificate Previously Held by Bell Helicopter Textron Canada Limited) Helicopters

AGENCY: Federal Aviation Administration (FAA), DOT.

ACTION: Final rule.

SUMMARY: The FAA is adopting a new airworthiness directive (AD) for certain Bell Textron Canada Limited (type certificate previously held by Bell Helicopter Textron Canada Limited) Model 206L series helicopters. This AD was prompted by a manufacturing flaw that could cause low fuel level detector switch units (switch units) to hang in the high position and fail to indicate a low fuel condition. This AD requires removing certain switch units from service and prohibits installing those switch units. This AD also requires accomplishing an operational test of certain other switch units, and depending on the results, removing the switch unit from service. This AD also prohibits installing those certain other switch units unless they pass an operational test. The FAA is issuing this AD to address the unsafe condition on these products.

DATES: This AD is effective June 11, 2021.

ADDRESSES: For service information identified in this final rule, contact Bell Textron Canada Limited, 12,800 Rue de l'Avenir, Mirabel, Quebec J7J1R4; telephone (450) 437-2862 or (800) 363-8023; fax (450) 433-0272; or at https://www.bellcustomer.com. You may view the referenced service information at the FAA, Office of the Regional Counsel, Southwest Region, 10101 Hillwood Pkwy, Room 6N-321, Fort Worth, TX 76177.

Examining the AD Docket

You may examine the AD docket at https://www.regulations.gov by searching for and locating Docket No. FAA-2006-25084; or in person at Docket Operations between 9 a.m. and 5 p.m., Monday through Friday, except Federal holidays. The AD docket contains this final rule, the Transport Canada AD, any comments received, and other information. The street address for Docket Operations is U.S. Department of Transportation, Docket Operations, M-30, West Building Ground Floor, Room W12-140, 1200 New Jersey Avenue SE, Washington, DC 20590.

FOR FURTHER INFORMATION CONTACT: Hal Jensen, Aerospace Engineer, Operational Safety Branch, FAA, 950 L'Enfant Plaza N SW, Washington, DC 20024; telephone (202) 267-9167; email hal.jensen@faa.gov.

SUPPLEMENTARY INFORMATION:

Background

The FAA issued a supplemental notice of proposed rulemaking (SNPRM) to amend 14 CFR part 39 by adding an AD that would apply to Bell Textron Canada Limited (type certificate previously held by Bell Helicopter Textron Canada Limited) Model 206L, 206L-1, 206L-3, and 206L-4 helicopters, with certain switch units part number (P/N) 206-063-613-003 installed. The SNPRM published in the Federal Register on March 12, 2021 (86 FR 14020). The FAA preceded the SNPRM with a notice of proposed rulemaking (NPRM) that published in the Federal Register on June 22, 2006 (71 FR 35836).

The NPRM was prompted by Canadian AD CF-2004-24, dated November 24, 2004, issued by Transport Canada, which is the aviation authority for Canada, to correct an unsafe condition for Model 206L series helicopters. Transport Canada advised that eight low fuel level detectors of listed serial numbers (S/Ns) may have been installed on Model 206L series helicopters. These detectors could hang in the high position and fail to indicate the low fuel condition. Accordingly, Transport Canada advised removing the affected switch units from service.

The SNPRM was prompted by a significant lapse of time since publication of the NPRM. The SNPRM also revised the NPRM by updating the type certificate holder's name, updating the estimated cost information, clarifying and expanding the applicability, clarifying the requirements, adding a compliance time, adding parts installation prohibitions, and updating the AD format.

The SNPRM proposed to require removing switch unit P/N 206-063-613-003 with S/N 1413, 1414, 1415, 1424, 1428, 1430, 1432, and 1433 from service and prohibit installing those switch units. The SNPRM proposed to require accomplishing an operational test of switch unit P/N 206-063-613-003 with a missing or illegible switch unit S/N or with an S/N that cannot be determined, and if the operational test fails, removing the switch unit from service. The SNPRM also proposed to prohibit installing switch unit P/N 206-063-613-003 with a missing or illegible switch unit S/N or with an S/N that cannot be determined unless it passes an operational test.

Discussion of Final Airworthiness Directive

Comments

The FAA received no comments on the SNPRM or on the determination of the costs.

Conclusion

These helicopters have been approved by the aviation authority of Canada and are approved for operation in the United States. Pursuant to the FAA's bilateral agreement with Canada, Transport Canada, its technical representative, has notified the FAA of the unsafe condition described in its AD. The FAA reviewed the relevant data and determined that air safety requires adopting this AD as proposed. Accordingly, the FAA is issuing this AD to address the unsafe condition on these helicopters.

Related Service Information

The FAA reviewed Bell Helicopter Textron Alert Service Bulletin No. 206L-04-132, Revision A, dated October 4, 2004. This service information specifies procedures for determining whether any of eight specified serial-numbered detector switch units are installed because they may fail to indicate a low fuel condition. If the S/N is missing or unreadable, the service information specifies inspecting the switch unit to determine if it is an affected switch unit. The service information also specifies removing each affected switch unit.

Differences Between This AD and the Transport Canada

This AD applies to switch units with a missing or illegible S/N or with an S/N that cannot be determined, and requires certain actions for those switch units, whereas the Transport Canada AD does not.

Costs of Compliance

The FAA estimates that this AD affects up to 558 helicopters of U.S. Registry. Labor rates are estimated at $85 per work-hour. Based on these numbers, the FAA estimates the following costs to comply with this AD.

Replacing a switch unit takes about 4 work-hours and parts cost about $921 for an estimated cost of $1,261 per switch unit and up to $703,638 for the U.S. fleet. Accomplishing an operational test takes about 4 work-hours for an estimated cost of $340 per switch unit and up to $189,720 for the U.S. fleet.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-10-08 Bell Textron Canada Limited (Type Certificate Previously Held by Bell Helicopter Textron Canada Limited): Amendment 39-21541 Docket No. FAA-2006-25084; Project Identifier 2005-SW-38-AD.

(a) Effective Date

This airworthiness directive (AD) is effective June 11, 2021.

(b) Affected ADs

None.

(c) Applicability

This AD applies to Bell Textron Canada Limited (type certificate previously held by Bell Helicopter Textron Canada Limited) Model 206L, 206L-1, 206L-3, and 206L-4 helicopters, certificated in any category, with a low fuel level detector switch unit (switch unit) part number (P/N) 206-063-613-003:

(1) With a switch unit serial number (S/N) 1413, 1414, 1415, 1424, 1428, 1430, 1432, or 1433 installed, or

(2) With a missing or illegible switch unit S/N or if the S/N cannot be determined, installed.

Note 1 to paragraph (c): Helicopters with a 206L-1+ designation are Model 206L-1 helicopters. Helicopters with a 206L-3+ designation are Model 206L-3 helicopters.

Note 2 to paragraph (c): The switch unit is located on the aft fuel boost pump assembly. The P/N and S/N for the switch unit could be on the outside face of the attachment flange, in the cross hatched area of the switch unit.

(d) Subject

Joint Aircraft Service Component (JASC) Code: 2842, Fuel Quantity Sensor.

(e) Unsafe Condition

This AD was prompted by a manufacturing flaw that could cause a switch unit to hang in the high position and fail to indicate a low fuel condition. The FAA is issuing this AD to prevent failure of the switch unit to indicate a low fuel condition that could lead to fuel exhaustion and which if not addressed, could result in a subsequent forced landing.

(f) Compliance

Comply with this AD within the compliance times specified, unless already done.

(g) Required Actions

(1) For a switch unit identified in paragraph (c)(1) of this AD, on or before the next 100-hour time-in-service inspection after the effective date of this AD, remove the switch unit from service.

(2) For a switch unit identified in paragraph (c)(2) of this AD, on or before the next 100-hour time-in-service inspection after the effective date of this AD:

(i) Determine the color of the switch unit mounting flange. If the mounting flange color is any color other than red, determine the purchase date. If the purchase date of the switch unit is between April 19 and July 26, 2004, or cannot be determined, do an operational test.

(ii) If the switch unit fails the operational test, before further flight, remove the switch unit from service.

(3) As of the effective date of this AD, do not install a switch unit identified in paragraph (c)(1) of this AD on any helicopter.

(4) As of the effective date of this AD, do not install a switch unit identified in paragraph (c)(2) of this AD on any helicopter unless the actions in paragraphs (g)(2)(i) and (ii) of this AD have been accomplished.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (i)(1) of this AD. Information may be emailed to: 9-AVS-AIR-730-AMOC@faa.gov.

(2) Before using any approved AMOC, notify your appropriate principal inspector, or lacking a principal inspector, the manager of the local flight standards district office/certificate holding district office.

(i) Related Information

(1) For more information about this AD, contact Hal Jensen, Aerospace Engineer, Operational Safety Branch, FAA, 950 L'Enfant Plaza N SW, Washington, DC 20024; telephone (202) 267-9167; email hal.jensen@faa.gov.

(2) Bell Helicopter Textron Alert Service Bulletin No. 206L-04-132, Revision A, dated October 4, 2004, which is not incorporated by reference, contains additional information about the subject of this AD. For service information identified in this AD, contact Bell Textron Canada Limited, 12,800 Rue de l'Avenir, Mirabel, Quebec J7J1R4; telephone (450) 437-2862 or (800) 363-8023; fax (450) 433-0272; or at https://www.bellcustomer.com. You may view this referenced service information at the FAA, Office of the Regional Counsel, Southwest Region, 10101 Hillwood Pkwy., Room 6N-321, Fort Worth, TX 76177. For information on the availability of this material at the FAA, call (817) 222-5110.

(3) The subject of this AD is addressed in Transport Canada AD CF-2004-24, dated November 24, 2004. You may view the Transport Canada AD on the internet at https://www.regulations.gov in Docket No. FAA-2006-25084.

(j) Material Incorporated by Reference

None.

Issued on April 28, 2021.
Lance T. Gant,
Director, Compliance & Airworthiness Division, Aircraft Certification Service.

[FR Doc. 2021-09278 Filed 5-6-21; 8:45 am]

BILLING CODE 4910-13-P